DEPARTMENT OF COMMERCE

National Oceanic and Atmospheric Administration

[RTID 0648-XA761]

Pacific Fishery Management Council; Public Meeting

AGENCY: National Marine Fisheries Service (NMFS), National Oceanic and Atmospheric Administration (NOAA), Commerce.

ACTION: Notice of public online meeting.

SUMMARY: The Pacific Fishery Management Council's (Pacific Council) Ad Hoc Ecosystem Workshop (EWG) and Ecosystem Advisory Subpanel (EAS) will hold online meetings, which are open to the public.

DATES: The EWG will hold an online meeting on Monday, February 22, 2021, from 1:30 p.m. to 4:30 p.m. Pacific Time, or until business is concluded. The EWG and EAS will hold a joint meeting on Tuesday, February 23, 2021, from 1:30 p.m. to 4:30 p.m. Pacific Time, or until business is concluded.

ADDRESSES: This meeting will be held online. Specific meeting information, including directions on how to join the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Kit Dahl, Staff Officer, Pacific Council; telephone: (503) 820-2422.

SUPPLEMENTARY INFORMATION: The purpose of the EWG meeting is to plan and prepare for advisory body work supporting the Pacific Council's March 2-11, 2021, meeting. This includes reviewing and discussing available meeting materials and planning work for the ecosystem management topics and other topics of interest that may arise during the Pacific Council meeting. In their joint meeting, the EAS and EWG will receive a briefing on the California Current Integrated Ecosystem Assessment Report and other topics as appropriate. A detailed agenda for these meetings will be made available on the Pacific Council website in advance of the meeting.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 business days prior to the meeting date.

Authority: 16 U.S.C. 1801 et seq.

Dated: January 8, 2021.
Rey Israel Marquez,
Acting Deputy Director, Office of Sustainable Fisheries, National Marine Fisheries Service.

[FR Doc. 2021-00558 Filed 1-12-21; 8:45 am]

BILLING CODE 3510-22-P